DEPARTMENT OF TRANSPORTATION

Federal Highway Administration

Alaska Federal Lands Long Range Transportation Plan

AGENCY: Federal Highway Administration (FHWA), Department of Transportation (DOT).

ACTION: Notice of extension of comment period.

SUMMARY: On December 12, 2011, via a Federal Register notice, we the Federal Highway Administration, along with the Bureau of Land Management, Fish and Wildlife Service, Forest Service and National Park Service, announced the availability of the draft Alaska Federal Lands Long Range Transportation Plans (LRTP) for public review and comment.

The draft plans outline a strategy for a multi-agency approach to improving and maintaining transportation assets that provide access to Federal Lands in the Alaska region over the next 20 years. We requested comments be submitted by March 12, 2012. With this notice, we extend that comment period from 90 days to 120 days.

DATES: Please provide your comments by April 11, 2012.

FOR FURTHER INFORMATION CONTACT: Federal Highway Administration (FHWA), DOT: Roxanne Bash, (360) 619-7558.

Bureau of Land Management (BLM), DOI: Randy Goodwin, (907) 474-2369.

Fish and Wildlife Service (FWS), DOI: Helen Clough, (907) 786-3353.

Forest Service (FS), USDA: Marie Messing, (907) 586-8834.

National Park Service (NPS), DOI: Paul Schrooten, (907) 644-3388.

SUPPLEMENTARY INFORMATION: On December 12, 2011, at 76 FR 77300, the FHWA published a notice in the Federal Register inviting comments to the Alaska Federal Lands draft Long Range Transportation Plans. The draft Plans are available on our project Web site: http://www.akfedlandslrtp.org. Submit comments for any or all plans electronically through the NPS Planning, Environment and Public Comment system at http://parkplanning.nps.gov. The original deadline for comments was March 12, 2012. This notice extends the deadline by 30 calendar days to April 11, 2012. Further information can be found in the December 12, 2011, notice.

Authority: 23 U.S.C. 204.

Dated: February 27, 2012.
Clara H. Conner,
Division Engineer, Western Federal Lands Highway Division, FHWA, Vancouver, Washington.

[FR Doc. 2012-5224 Filed 3-6-12; 8:45 am]

BILLING CODE 4910-36-M